DEPARTMENT OF THE INTERIOR

Fish and Wildlife Service

Draft National Bald Eagle Management Guidelines

AGENCY: Fish and Wildlife Service, Interior

ACTION: Notice of availability.

SUMMARY: This notice advises the public that draft National Bald Eagle Management Guidelines are available for public review. Comments and suggestions are requested.

DATES: We will accept written comments on the Draft National Bald Eagle Management Guidelines until May 17, 2006.

ADDRESSES: Copies of the Draft National Bald Eagle Management Guidelines can be obtained by writing to U.S. Fish and Wildlife Service, Division of Migratory Bird Management, 4401 North Fairfax Drive, Mail Stop MBSP-4107, Arlington, VA 22203. The draft guidelines may also be obtained via the Internet at: http://www.fws.gov/migratorybirds/BaldEagle.htm. Written comments can be sent to the mailing address above, or e-mailed to BaldEagle_ManagementGuidelines@fws.gov. All comments must include the name and full mailing address of the person submitting the comments. All comments received, including names and addresses, will become part of the public record. You may inspect comments by appointment during normal business hours at the address above.

FOR FURTHER INFORMATION CONTACT: Eliza Savage, Division of Migratory Bird Management, (see ADDRESSES section); or via e-mail at: Eliza_Savage@fws.gov; telephone: (703) 358-2329; or facsimile: (703) 358-2217.

SUPPLEMENTARY INFORMATION: The U.S. Fish and Wildlife Service has proposed to remove the bald eagle from the list of threatened species under the Endangered Species Act (16 U.S.C. 1531 et seq.) (see our re-opening of the public comment period on the proposed rule to delist the bald eagle, published separately in this part of today's Federal Register). If the bald eagle is delisted, the Bald and Golden Eagle Protection Act (BGEPA) (16 U.S.C. 668-668d) will become the primary law protecting bald eagles. BGEPA prohibits take of bald and golden eagles and provides a statutory definition of “take” that includes “disturb.”

To provide guidance to land managers, landowners, and others, the Service has developed draft National Bald Eagle Management Guidelines. In the event the bald eagle is delisted, the guidelines will provide the public with information on how to avoid disturbing bald eagles. Secondly, the guidelines include recommended additional practices that can benefit bald eagles. The draft guidelines are based on the definition of “disturb” that we are making available for public comment in a proposed rule published separately in this part of today's Federal Register.

Dated: October 31, 2005.
H. Dale Hall,
Director.

[FR Doc. 06-1441 Filed 2-15-06; 8:45 am]

BILLING CODE 4310-55-P